DEPARTMENT OF COMMERCE

National Oceanic and Atmospheric Administration

Proposed Information Collection; Comment Request; Alaska Observer Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 20, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy Bearden, (907) 586-7008 or patsy.bearden@noaa.gov.

SUPPLEMENTARY INFORMATION:

I. Abstract

The North Pacific Groundfish and Halibut Observer Program (Observer Program) plays a critical role in the conservation and management of Bering Sea, Aleutian Islands, and Gulf of Alaska groundfish and halibut fisheries. Five observer contracting companies provide observer services (see http://www.afsc.noaa.gov/FMA/observer_providers.htm). Observers collect biological samples and fishery-dependent information on total catch and interactions with protected species. Managers use data collected by observers to monitor quotas, manage groundfish and prohibited species catch, and document and reduce fishery interactions with protected resources. Scientists use observer-collected data for stock assessments and marine ecosystem research.

All sectors of the groundfish fishery, including vessels less than 60 feet length overall and the commercial halibut sector, are now included in the Observer Program. The National Marine Fisheries Service (NMFS) has the flexibility to decide when and where to deploy observers based on a scientifically defensible deployment plan reviewed annually by the North Pacific Fishery Management Council. The Observer Program places all vessels and processors in the groundfish and halibut fisheries off Alaska into one of two observer coverage categories: A full coverage category and a partial coverage category.

II. Method of Collection

This request is for extension of a currently approved information collection.

Electronically submitted landing information submitted by managers of shoreside processors and stationary floating processors (SFPs) is used to assess the observer fee liability for each landing. Managers of shoreside processors and SFPs access reports generated by NMFS' Web-based application for a receipt of the observer fee liability associated with each landing. NMFS makes electronic monitoring available as an alternative tool for fulfilling observer coverage requirements. The electronic monitoring option does not change the funding mechanism or fee amount, but does provide an alternative to carrying a human observer.

III. Data

OMB Control Number: 0648-0318.

Form Number(s): None.

Type of Review: Regular (extension of a current information collection).

Affected Public: Business or other for-profit organizations.

Estimated Number of Respondents: 959.

Estimated Time per Response: 8 hr to review and 1 hr to submit candidate college transcripts and statements, Observer provider; 1 hr for Observer training registration; 7 minutes for Observer briefing registration; 7 minutes for Projected observer assignment; 5 minutes for Physical examination verification; 7 minutes for Observer deployment/logistics report; 30 minutes for Observer debriefing registration; 12 minutes for Certificates of insurance; 30 minutes for Observer provider contracts; 1 hr for Other reports; 30 minutes for Industry Request for Assistance in Improving Observer Data Quality Issues; 60 hr for Observer provider permit application; 30 minutes for Observer provider invoice copies; 15 minutes each for Update to provider information, Observer declaration and deployment system (ODDs), Observer fee calculation and submittal and Notification of one-time election of observer coverage; 4 hours for Observer appeal; 1 hr for Request for electronic monitoring as exemption for observer coverage.

Estimated Total Annual Burden Hours: 4,130.

Estimated Total Annual Cost to Public: $3,256.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 14, 2015.
Sarah Brabson,
NOAA PRA Clearance Officer.

[FR Doc. 2015-12155 Filed 5-19-15; 8:45 am]

BILLING CODE 3510-22-P